DEPARTMENT OF VETERANS AFFAIRS

[OMB Control No. 2900-0554]

Agency Information Collection: Emergency Submission for OMB Review; Comment Request

AGENCY: Veterans Health Administration, Department of Veterans Affairs.

ACTION: Notice.

SUMMARY: In compliance with the Paperwork Reduction Act (PRA) of 1995 (44 U.S.C., 3501 et seq.), this notice announces that the United States Department of Veterans Affairs (VA), has submitted to the Office of Management and Budget (OMB) the following emergency proposal for the collection of information under the provisions of the Paperwork Reduction Act (44 U.S.C. 3507(j)(1)). An emergency clearance is being requested for approval of the revisions of VA Form 10-0361 series and to include several new forms to comply with Public Law 107-95. Public Law 107-95 re-established VA's Homeless Providers Grant and Per Diem Program. The law mandated that three new grant programs be created for homeless veterans. VA Form 10-0361 has been revised to reflect the changes mandated by the new public law. Several new forms were created to implement the provision of the statute.

DATES: Comments must be submitted on or before March 28, 2003.

FOR FURTHER INFORMATION CONTACT: Denise McLamb, Records Management Service (005E3), Department of Veterans Affairs, 810 Vermont Avenue, NW., Washington, DC 20420, (202) 273-8030, FAX (202) 273-5981 or e-mail: denise.mclamb@mail.va.gov. Please refer to “OMB Control No. 2900-0554”.

Send comments and recommendations concerning any aspect of the information collection to VA's OMB Desk Officer, OMB Human Resources and Housing Branch, New Executive Office Building, Room 10235, Washington, DC 20503 (202) 395-7316 or FAX (202) 395-6974. Please refer to “2900-0554”.

SUPPLEMENTARY INFORMATION:

Titles

a. Homeless Providers Grant and Per Diem Program, Capital Grant Application, VA Form 10-0361-CG.

b. Homeless Providers Grant and Per Diem Program, Life Safety Code Application, VA Form 10-0361-LSC.

c. Homeless Providers Grant and Per Diem Program, Per Diem Only Application, VA Form 10-0361-PDO.

d. Homeless Providers Grant and Per Diem Program, Special Needs Application, VA Form 10-0361-SN.

e. Compliance Reports for Per Diem and Special Needs Grants. No form needed. May be reported to VA in standard business narrative.

f. Homeless Providers Grant and Per Diem Program, Technical Assistance Application, VA Form 10-0361-TA.

g. Compliance Reports for Technical Assistance Grants. No form needed. May be reported to VA in standard business narrative.

OMB Control Number: 2900-0554.

Type of Review: Revision of a currently approved collection.

Abstract: The information collected on VA Form 10-0361 series, Homeless Providers Grant and Per Diem Program, will be used to determine applicants eligibility to receive a grant/or per diem payments which provide supportive housing/services to assist homeless veterans transition to independent living. The collected information will be used to apply the specific criteria to rate and rank each application; and to obtain information necessary to ensure that Federal funds are awarded to applicants who are financially stable and who will conduct program for which a grant and/or per diem award was made. If this data were not collected, VA would not be able to implement the provisions of Public Law 107-95.

Affected Public: Not-for-profit institution, and State, local or tribal government.

Estimated Total Annual Burden:

a. Homeless Providers Grant and Per Diem Program, Capital Grant Application, VA Form 10-0361-CG—3,500 hours.

b. Homeless Providers Grant and Per Diem Program, Life Safety Code Application, VA Form 10-0361-LSC—2,000 hours.

c. Homeless Providers Grant and Per Diem Program, Per Diem Only Application, VA Form 10-0361-PDO—3,000 hours.

d. Homeless Providers Grant and Per Diem Program, Special Needs Application, VA Form 10-0361-SN—4,000 hours.

e. Compliance Reports for Per Diem and Special Needs Grants—1,500 hours.

f. Homeless Providers Grant and Per Diem Program, Technical Assistance Application, VA Form 10-0361-TA—250 hours.

g. Compliance Reports for Technical Assistance Grants—90 hours.

Estimated Average Burden Per Respondent

a. Homeless Providers Grant and Per Diem Program, Capital Grant Application, VA Form 10-0361-CG—35 hours.

b. Homeless Providers Grant and Per Diem Program, Life Safety Code Application, VA Form 10-0361-LSC—10 hours.

c. Homeless Providers Grant and Per Diem Program, Per Diem Only Application, VA Form 10-0361-PDO—20 hours.

d. Homeless Providers Grant and Per Diem Program, Special Needs Application, VA Form 10-0361-SN—20 hours.

e. Compliance Reports for Per Diem and Special Needs Grants—5 hours.

f. Homeless Providers Grant and Per Diem Program, Technical Assistance Application, VA Form 10-0361-TA—10 hours.

g. Compliance Reports for Technical Assistance Grants—2.25 hours.

Frequency of Response: On occasion.

Estimated Number of Respondents

a. Homeless Providers Grant and Per Diem Program, Capital Grant Application, VA Form 10-0361-CG—100.

b. Homeless Providers Grant and Per Diem Program, Life Safety Code Application, VA Form 10-0361-LSC—200.

c. Homeless Providers Grant and Per Diem Program, Per Diem Only Application, VA Form 10-0361-PDO—150.

d. Homeless Providers Grant and Per Diem Program, Special Needs Application, VA Form 10-0361-SN—200.

e. Compliance Reports for Per Diem and Special Needs Grants—300.

f. Homeless Providers Grant and Per Diem Program, Technical Assistance Application, VA Form 10-0361-TA—25.

g. Compliance Reports for Technical Assistance Grants—40.

Dated: March 14, 2003.
By direction of the Secretary.
Martin L. Hill,
Acting Director, Records Management Service.

[FR Doc. 03-6789 Filed 3-20-03; 8:45 am]

BILLING CODE 8320-01-P